DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., CFM, Acting Section Chief, Engineering Management Section, Mitigation Division, 500 C Street, SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This rule is categorically excluded from the requirements of 44 CFR part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | # Depth in feet above ground. * Elevation in feet (NGVD) + Elevation in feet (NAVD) Modified
Healdsburg, California
Docket No.: FEMA-B-7453
| California | City of Healdsburg | Russian River | Just upstream of U.S. Highway 101 | *90
|  |  | Approximately 6,750 feet Railroad | *104
|  | Russian River-Split Flow | At the Convergence with Russian River | *90
|  |  | At the Divergence from Russian River | *99
# Depth in feet above ground.
* National Geodetic Vertical Datum.
+ North American Vertical Datum.
ADDRESSES
City of Healdsburg
Maps are available for inspection at City of Healdsburg, City Hall, 401 Grove Street, Healdsburg, California 95448.
Sonoma County, California
Docket No.: FEMA-B-7453
California | Sonoma County | Russian River | At confluence with Dry Creek | *85
|  |  | At U.S. Highway 101 | *90
# Depth in feet above ground.
* National Geodetic Vertical Datum.
+ North American Vertical Datum.
ADDRESSES
Sonoma County Unincorporated Areas
Maps are available for inspection at Permit and Resource Management Department, 2550 Ventura Avenue, Santa Rosa, California 95403.
Silt, Colorado
Docket No.: FEMA-B-7454
Colorado | Town of Silt | Colorado River | Approximately 1100 feet upstream of I-70 | *5,404
|  |  | Just downstream of County Road 311 | *5,428
# Depth in feet above ground.
* National Geodetic Vertical Datum.
+ North American Vertical Datum.
ADDRESSES
Town of Silt
Maps are available for inspection at the Town Hall, 231 North 7th Street, Silt, Colorado 81652.
Knox County, Kentucky
Docket No.: FEMA-B-7454
Kentucky | Knox County | Cumberland River | Approximately 6,410 feet southwest of the intersection of Goodin Creek Road and Kentucky State Highway 11 | +966
|  |  | Approximately 4,495 feet upstream of the confluence of Elys Branch | +1,014
# Depth in feet above ground.
* National Geodetic Vertical Datum.
+ North American Vertical Datum.
ADDRESSES
Knox County Unincorporated Areas
Maps are available for inspection at Community Map Repository, County Courthouse, 104 Court Square, Barbourville, Kentucky 40906.
City of Barbourville
Maps are available for inspection at Community Map Repository, County Courthouse, 104 Court Square, Barbourville, Kentucky 40906.
Williamsburg, Kentucky
Docket No.: FEMA-B-7454
Kentucky | City of Williamsburg | Cumberland River | Just downstream of State Route 204 | +906
|  |  | Approximately 4,570 feet upstream from Goodin Creek | +966
# Depth in feet above ground.
* National Geodetic Vertical Datum.
+ North American Vertical Datum.
ADDRESSES
Whitley County Unincorporated Areas
Maps are available for inspection at Community Map Repository, Whitley County Courthouse, 310 Main Street, Williamsburg, Kentucky 40769.
City of Williamsburg
Maps are available for inspection at Community Map Repository, Williamsburg City Hall, office of Mayor, 116 North Second Street, Williamsburg, Kentucky 40769.
Eagle Lake, Maine
Docket No.: FEMA-B-7454
Maine | Town of Eagle Lake | Eagle Lake | Entire Shoreline at Eagle Lake within the corporate limits | +581
# Depth in feet above ground.
* National Geodetic Vertical Datum.
+ North American Vertical Datum.
ADDRESSES
Town of Eagle Lake
Maps are available for inspection at the 36 Devoe Brook Road, Eagle Lake, Maine 04739.
Milan, New Hampshire
Docket No.: FEMA-B-7454
New Hampshire | Town of Milan | Androscoggin River | Approximately 7,800 feet of Halt Road extended | +1,109
|  |  | Approximately 1,500 feet upstream of Owens Road extended | +1,114
# Depth in feet above ground.
* National Geodetic Vertical Datum.
+ North American Vertical Datum.
ADDRESSES
Town of Milan
Maps are available for inspection at the Town Hall, 20 Bridge Street, Milan, New Hampshire 03588.
Lincoln County, Montana
Docket No.: FEMA-B-7454
Montana | Lincoln County | Big Cherry Creek | At the confluence with Libby Creek | *2,152
|  |  | Approximately 3,600 feet upstream of Granite Creek Road | *2,358
|  | Libby Creek | Just upstream of railroad crossing prior to confluence with Kootenai River | *2,065
|  |  | Approximately 3,500 feet upstream of U.S. Route 2 | *2,773
# Depth in feet above ground.
* National Geodetic Vertical Datum.
+ North American Vertical Datum.
ADDRESSES
Lincoln County Unincorporated Areas
Maps are available for inspection at the County Courthouse, 512 California Avenue, Libby, Montana 59923.
Wakefield, New Hampshire
Docket No.: FEMA-B-7454
New Hampshire | Town of Wakefield | Belleau Lake | At Moose Road | +584
|  |  | Entire Shoreline of Belleau Lake above Woodman Lake | +584
# Depth in feet above ground.
* National Geodetic Vertical Datum.
+ North American Vertical Datum.
ADDRESSES
Town of Wakefield
Maps are available for inspection at the Map Repository, Town of Wakefield, Assessor's Office, 2 High Street, Sanbornville, New Hampshire 03872.
Granville, Pennsylvania
Docket No.: FEMA-B-7454
Pennsylvania | Township of Granville | Strodes Run | Approximately at the confluence with Juniata River | +490
|  |  | Approximately 55 feet upstream of Ferguson Valley Road | +621
# Depth in feet above ground.
* National Geodetic Vertical Datum.
+ North American Vertical Datum.
ADDRESSES
Township of Granville
Maps are available for inspection at the Granville Municipal Offices, 100 Helen Street Lewistown, Pennsylvania 17044.
Oliver, Pennsylvania
Docket No.: FEMA-B-7454
Pennsylvania | Township of Oliver | Strodes Run | Approximately at the confluence with Juniata River | +490
|  |  | Approximately 55 feet upstream of Ferguson Valley Road | +621
# Depth in feet above ground.
* National Geodetic Vertical Datum.
+ North American Vertical Datum.
ADDRESSES
Township of Oliver
Maps are available for inspection at Municipal Offices, 274 Lockport Road, Lewistown, Pennsylvania 17044.
Lewis County, Washington
Docket No.: FEMA 7442
Washington | Lewis County | Newaukum River | Confluence with Chehalis River | *183
|  |  | Confluence of North and South Fork Newaukum River | *268
Washington | Lewis County | Newaukum River Overflow | Approximately 750 feet upstream of Rice Road | *185
|  |  | Approximately 2.1 miles upstream of Rice Road | *199
Washington | City of Chehalis | Newaukum River | Approximately 500 feet upstream of Railroad | *184
|  |  | Approximately 3,650 feet upstream of Railroad | *185
Washington | City of Chehalis | Newaukum River Overflow | Approximately 1,200 feet downstream of Rice Road | *185
|  |  | Approximately 750 feet upstream of Rice Road | *185
Washington | City of Napavine | Newaukum River | Approximately 2,000 feet downstream of Rush Road | *224
|  |  | Approximately 100 feet upstream of Kirkland Road | *240
# Depth in feet above ground.
* National Geodetic Vertical Datum.
+ North American Vertical Datum.
ADDRESSES
Lewis County Unincorporated Areas
Maps are available for inspection at Lewis County Public Works Department, 350 North Market Boulevard, Chehalis, Washington 98532.
City of Chehalis
Maps are available for inspection at 1321 South Market Boulevard, Chehalis, Washington 98532.
City of Napavine
Maps are available for inspection at 214 Second Avenue Northeast, Napavine, Washington 98565.
Ohio County, West Virginia
Docket No.: FEMA B-7454
West Virginia | Ohio County | Little Wheeling Creek | Approximately 475 feet upstream of Middle Wheeling Creek Road | *718
|  |  | Approximately 158 feet upstream of U.S. Route 40 | *782
# Depth in feet above ground.
* National Geodetic Vertical Datum.
+ North American Vertical Datum.
ADDRESSES
Ohio County Unincorporated areas
Maps are available for inspection at the City County Building, 1500 Chapline Street, Room 215, Wheeling, West Virginia 26003.

Flooding source(s) | Location of referenced elevation | * Elevation in feet (NGVD) + Elevation in feet (NAVD) # Depth in feet above ground. Modified | Communities affected
Morgan County, Alabama and Incorporated Areas
Docket No.: FEMA D-7606
Bakers Creek | Approximately 1,600 feet upstream of the confluence with the Tennessee River | +558 | Morgan County (Unincorporated Areas), City of Decatur.
| Approximately 100 feet downstream of West Morgan Road | +621
Tributary to Bakers Creek | At the confluence with Bakers Creek | +595 | Morgan County (Unincorporated Areas), City of Decatur.
| Approximately 150 feet upstream of Cumberland Avenue Southwest | +611
Betty Rye Branch | Approximately 0.8 mile upstream of the confluence with the Tennessee River | +559 | Morgan County (Unincorporated Areas), City of Decatur.
| Approximately 150 feet upstream of Bedford Drive Southwest | +607
Black Branch | Just upstream of Point Mallard Drive (8th Street southeast) | +562 | Morgan County (Unincorporated Areas), City of Decatur.
| Approximately 0.2 mile upstream of Regency Boulevard | +566
Brush Creek | Approximately 650 feet downstream of Brookmead Road | +562 | City of Decatur.
| Approximately 0.2 mile upstream of Royal Drive | +568
Chapel Hill Branch | Approximately 0.4 mile upstream of the confluence with West Flint Creek | +572 | Morgan County (Unincorporated Areas), City of Decatur.
| Approximately 2.0 miles upstream of the confluence with West Flint Creek | +594
Clark Spring Branch | Approximately 800 feet upstream of the confluence with Brush Creek | +568 | City of Decatur.
| Approximately 400 feet upstream of Asheville Drive Southwest | +641
Clark Spring Branch Tributary | At the confluence with Clark Spring Branch | +587 | City of Decatur.
| Approximately 300 feet upstream of Danville Park Drive Southwest | +613
Dry Branch | Approximately 0.5 mile downstream of Washington Street | +559 | Morgan County (Unincorporated Areas), City of Decatur.
| Approximately 900 feet upstream of Runnymead Avenue Southwest | +604
North Dinsmore | Just downstream of U.S. Highway 31 | +564 | City of Decatur.
| Approximately 100 feet upstream of Cedar Lake Road | +575
South Dinsmore Middle Tributary | Approximately 50 feet downstream of U.S. Highway 31 | +564 | Morgan County (Unincorporated Areas), City of Decatur.
| Approximately 250 feet upstream of Spring Avenue | +610
South Dinsmore North Tributary | At the confluence with South Dinsmore Middle Tributary | +567 | City of Decatur.
| Approximately 0.5 mile upstream of Lenwood Road | +570
South Dinsmore South Tributary | At the confluence with South Dinsmore Middle Tributary | +571 | Morgan County (Unincorporated Areas), City of Decatur.
| Approximately 1,600 feet upstream of Central Avenue | +576
# Depth in feet above ground.
* National Geodetic Vertical Datum.
+ North American Vertical Datum.
ADDRESSES
City of Decatur
Maps available for inspection at the City of Decatur Building Department, 403 Lee Street Northeast, Fourth floor, Decatur, Alabama 35603.
Morgan County Unincorporated Areas
Maps available for inspection at the Morgan County Engineering Department, 580 Shull Road, Northeast, Hartselle, Alabama 35601.
Harlan County, Kentucky and Incorporated Areas
Docket No.: FEMA B-7454
Catron Creek | At the confluence of Catron Creek with Martins Fork | +1,188 | Harlan County (Unincorporated Areas) City of Harlan.
| Approximately 270 feet upstream of the confluence of Lower Double Branch | +1,472
Clover Fork | At the confluence of Clover Fork with Cumberland River | +1,178 | Harlan County (Unincorporated Areas) City of Evarts, City of Harlan.
| Approximately 1,140 feet upstream of the confluence of Breedens Creek | +1,722
Cloverlick Creek | At the confluence of Cloverlick Creek with Poor Fork | +1,427 | City of Loyall Harlan County (Unincorporated Areas) City of Cumberland.
| Approximately 45 feet upstream of the confluence of Gilley Branch | +1,453
Cumberland River | Approximately 1,440 feet downstream of the confluence of Jerry's Branch | +1,098 | Harlan County (Uninc. Areas) City of Loyall, City of Wallins Creek.
| At the confluence of Clover Fork and Poor Fork | +1,178
Looney Creek | At the confluence of Looney Creek with Poor Fork | +1,437 | Harlan County (Uninc. Areas) City of Benham, City of Cumberland, City of Lynch.
| Approximately 735 feet downstream of the confluence of Long Rock Branch | +1,884
Martins Fork | At the confluence of Martins Fork with Clover Fork | +1,181 | Harlan County (Unincorporated Areas) City of Harlan.
| Approximately 2,990 feet upstream of the confluence of Raccoon Branch | +1,264
Poor Fork | At the confluence of Poor Fork with Cumberland River | +1,178 | Harlan County (Unincorporated Areas) City of Cumberland, City of Loyall.
| Approximately 3,670 feet upstream of the confluence of Coldiron Branch | +1,522
Wallins Creek | At the confluence of Wallins Creek with Cumberland River | +1,133 | Harlan County (Unincorporated Areas) City of Wallins Creek.
| Approximately 175 feet upstream of the confluence of Brock Branch | +1,154
Yocum Creek | At the confluence of Yocum Creek with Clover Fork | +1,300 | Harlan County (Unincorporated Areas).
| Approximately 575 feet downstream of the confluence of Reds Creek | +1,519
# Depth in feet above ground.
* National Geodetic Vertical Datum.
+ North American Vertical Datum.
ADDRESSES
Harlan County (Unincorporated Areas)
Maps are available for inspection at the County Courthouse, Harlan, Kentucky 40871.
City of Benham
Maps are available for inspection at the County Courthouse, Harlan, Kentucky 40871.
City of Cumberland
Maps are available for inspection at the County Courthouse, Harlan, Kentucky 40871.
City of Evarts
Maps are available for inspection at the County Courthouse, Harlan, Kentucky 40871.
City of Harlan
Maps are available for inspection at the County Courthouse, Harlan, Kentucky 40871.
City of Loyall
Maps are available for inspection at the County Courthouse, Harlan, Kentucky 40871.
City of Lynch
Maps are available for inspection at the County Courthouse, Harlan, Kentucky 40871.
City of Wallins Creek
Maps are available for inspection at the County Courthouse, Harlan, Kentucky 40871.
Barry County, Missouri and Incorporated Areas
Docket Nos.: FEMA B-7453 and B-7454
Unnamed Tributary No. 1 | Just upstream of the confluence with Flat Creek | +1,309 | Barry County (Unincorporated Areas) and City of Cassville.
| Approximately 2,325 feet upstream of Highway 248 | +1,320
Town Branch | Approximately 750 feet downstream of Main Street | +1,308 | City of Cassville.
| Approximately 2,950 feet upstream of County House Road | +1,350
Brock Branch | Just upstream of the confluence with Flat Creek | +1,310 | City of Cassville.
| Approximately 1,535 feet upstream of the confluence with Flat Creek | +1,319
Hawk Branch | Approximately 1,220 feet downstream of Presley Drive | +1,321 | City of Cassville.
| Approximately 160 feet upstream of Oak Hill Drive | +1,338
Flat Creek | Approximately 1,500 feet downstream of Thirteenth Street | +1,298 | Barry County (Unincorporated Areas) and City of Cassville.
| Approximately 3,100 feet upstream of County Bridge | +1,320
Boys Drain | Just upstream of the confluence with Unnamed Tributary | +1,298 | City of Monett.
| Approximately 220 feet upstream of the Sixth Street | +1,338
Chapel Drain | Just upstream of the confluence with Kelly Creek | +1,328 | Barry County (Unincorporated Areas) and City of Monett.
| At the intersection of Chapel Drain and Cleveland Street (Highway 60) | +1,334
Chapel Drain | At confluence with Kelly Creek | +1,328 | City of Monett.
| Just upstream of Chapel Drive | +1,336
Clear Creek | Approximately 850 feet downstream of the confluence with Unnamed Tributary | +1,245 | Barry County (Unincorporated Areas) and City of Monett.
| Approximately 225 feet upstream of Farm Road 1090 | +1,345
Kelly Creek | Approximately 300 feet downstream of Diary Street | +1,290 | Barry County (Unincorporated Areas) and City of Monett.
| Approximately 4,850 feet upstream of Chapel Drive | +1,353
Kelly Creek Tributary | Just upstream of the confluence with Kelly Creek | +1,303 | City of Monett.
| Approximately 3,700 feet upstream of Cleveland Street | +1,366
Tributary # 1 to Unnamed Tributary to Clear Creek | At confluence with Unnamed Tributary | +1,326 | City of Monett.
| Approximately 750 feet upstream of confluence with Unnamed Tributary | +1,333
Unnamed Tributary | Just upstream of the confluence with Clear Creek | +1,250 | Barry County (Unincorporated Areas) and City of Monett.
| Approximately 1,440 feet upstream of Highway 37 | +1,350
Unnamed Tributary to Clear Creek | At Lawrence County—Barry County Boundary. | +1,285 | City of Monett.
| Approximately 1,075 feet upstream of Missouri State Highway “H” and just downstream of Farm Road 2330. | +1,377
# Depth in feet above ground.
* National Geodetic Vertical Datum.
+ North American Vertical Datum.
ADDRESSES
Barry County (Unincorporated Areas) Missouri
Maps are available for inspection at the County Courthouse, 700 Main Street, Cassville, Missouri 65625.
City of Cassville
Maps are available for inspection at City Hall, 300 Main Street, Cassville, Missouri 65625.
City of Monett
Maps are available for inspection at City Hall, 217 Fifth Street, Monett, Missouri 65708.

(Catalog of Federal Domestic Assistance No. 83.100, “Flood Insurance.”)

Dated: October 18, 2006.
David I. Maurstad,
Director, Mitigation Division, Federal Emergency Management Agency, Department of Homeland Security.

[FR Doc. E6-18308 Filed 10-31-06; 8:45 am]

BILLING CODE 9110-12-P